DEPARTMENT OF THE INTERIOR

Bureau of Land Management

[AK-990-5101-NH-FL07]

Notice of Intent To Prepare an Environmental Impact Statement (EIS) for Renewal of the Federal Agreement and Grant of Right-of-Way for the Trans-Alaska Pipeline System (TAPS)

AGENCY: Bureau of Land Management, Interior.

ACTION: Notice of intent (NOI) to prepare an environmental impact statement (EIS) for renewal of the federal agreement and grant of right-of-way for the Trans-Alaska Pipeline System (TAPS) and notice of scoping meetings.

SUMMARY: In accordance with the Federal Land Policy and Management Act of 1976 (43 U.S.C. 1701), as amended; the National Environmental Policy Act of 1969 (NEPA) (42 U.S.C. 4321), as amended; the Council on Environmental Quality (CEQ) regulations (40 CFR parts 1500-1508); and the Mineral Leasing Act of 1920 (30 U.S.C. 185), as amended, including Title II—the Trans-Alaska Pipeline Authorization Act (TAPAA; 43 U.S.C. 1651), the Bureau of Land Management (BLM), through its office in the Joint Pipeline Office (JPO), will prepare an Environmental Impact Statement (EIS) on renewing the right-of-way for the Trans-Alaska Pipeline System (TAPS). Assisting the BLM in preparation of the EIS will be Argonne National Laboratory, Argonne, Illinois.

The BLM will hold public scoping meetings to obtain comments for the EIS at the following locations on the dates specified (specific meeting times and places will be announced through local media and project web sites):

Barrow, Alaska: Wednesday, September 12, 2001

Fairbanks, Alaska: Thursday, September 13, 2001

Copper Center/Glennallen, Alaska: Monday, September 17, 2001

Valdez, Alaska: Tuesday, September 18, 2001

Delta Junction, Alaska: Wednesday, September 19, 2001

Anchorage, Alaska: Thursday, September 20, 2001

DATES: The BLM will also accept written comments on the EIS scope postmarked by September 29, 2001; and electronic, faxed, and voice comments received by September 29, 2001. Written comments may also be hand-delivered to the Joint Pipeline Office in Anchorage, Alaska, by 4 p.m. (Alaska Standard Time) on September 28, 2001.

ADDRESSES: Written comments should be mailed to BLM TAPS Renewal Scoping, Argonne National Laboratory EAD/900, 9700 S. Cass Avenue, Argonne, IL 60439. As an alternative, written comments can be hand-delivered to BLM TAPS Renewal Scoping, 411 W. 4th Avenue, Suite 2, Anchorage, AK. [Do not mail comments to this address.] Comments also can be e-mailed to tapseis@anl.gov, submitted through the “Public Comment Form” feature on the TAPS Renewal EIS Web site at tapseis.anl.gov, by fax toll free to 866-386-7350, or by voice message toll free at 886-386-7331.

FOR FURTHER INFORMATION, CONTACT: Rob McWhorter, 907-271-3664, Joint Pipeline Office, 411 W 4th Avenue, Suite 2, Anchorage, AK 99501, rmcwhort@jpo.doi.gov, or visit the TAPS Right-of-Way Renewal Web site at tapsrenewal.jpo.doi.gov or the TAPS Renewal EIS Web site at tapseis.anl.gov.

Withholding of Personal Information: It is the BLM's practice to make comments, including names and addresses of commenters, available for public review during regular business hours. Individual commenters may request that we withhold their home address from the scoping record, and we will honor such requests to the extent allowable by law. Circumstances may also arise in which we would withhold from the scoping record a commenter's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: On January 23, 1974, the Federal Agreement and Grant of Right-of-Way (Federal Grant) for the Trans-Alaska Pipeline was authorized and issued pursuant to Section 28 of the Mineral Leasing Act, as amended by the Trans-Alaska Pipeline Authorization Act of 1973 (43 U.S.C. 1651). That agreement and grant will expire in 2004. Under Section 28(n) of the Mineral Leasing Act (30 U.S.C. 185(n)), the BLM shall renew a right-of-way upon request of an applicant in accordance with this section of the Act. Section 7(C) of the Federal Grant states that the “the Right-of-Way shall be renewed, subject to and in accordance with the provision of the Trans-Alaska Pipeline Authorization Act.” On May 2, 2001, the owner companies of the Trans-Alaska Pipeline System (TAPS) [Amerada Hess Pipeline Corporation; BP Pipelines (Alaska), Inc.; ExxonMobil Pipeline Company; Phillips Transportation Alaska, Inc.; Unocal Pipeline Company; and Williams Alaska Pipeline Company, LLC] submitted an application to renew the Federal Grant for the TAPS for 30 years. The BLM has determined that this renewal would be a major federal action as defined by the NEPA, and, thus, the BLM will prepare an EIS according to the requirements of the CEQ's implementing regulations. This NOI provides public notice of preparation of the EIS and announces the opportunity for the public to provide comments relating to the preparation, scope, and content of the EIS.

The proposed action to be addressed in the EIS is the renewal for 30 years of the Federal Grant that governs the right-of-way for the TAPS. The Federal Grant expires on January 22, 2004. At the same time the EIS is being prepared, the State of Alaska will consider an action to renew the State Right-of-Way Lease (State Lease), which expires on May 2, 2004. The scope of the EIS will address the operation of the TAPS along its entire right-of-way from Pump Station #1 at Prudhoe Bay to the Marine Terminal at the Port of Valdez. The proposal to be addressed in the EIS does not extend to authorizing new Federal or State oil and gas leasing, management of lands adjacent to the Federal or State right-of-way, or regulation of State of Alaska highways paralleling the pipeline. In addition to evaluating the applicants' proposal, the EIS will address the no-action alternative of not renewing the Federal Grant. Other alternatives may be developed as a result of scoping.

The TAPS begins on Alaska's North Slope in the Prudhoe Bay oil field. It extends southward over the Brooks Range via Atigun Pass, crosses the Yukon River 30 miles downstream from Stevens Village, passes to the east of Fairbanks, and generally parallels the Richardson Highway south, passing over the Alaska Range via Thompson Pass, to Valdez on Prince William Sound. Maps depicting the route of the TAPS and adjacent land status are available at the TAPS Right-of-Way Renewal Web site at tapsrenewal.jpo.doi.gov, or the TAPS Renewal EIS Web site at tapseis.anl.gov.

The BLM anticipates that the preparation of the TAPS EIS and Record of Decision will require 17 months to complete and will include public and agency scoping; coordination and consultation with Federal, State, and local agencies and Native governments; publication of a draft EIS; public review and public hearings on the draft EIS, and publication of a final EIS and Record of Decision. As currently envisioned, the EIS will address impacts for the following topical areas:

1. Physical environment

a. Air quality

b. Soils and permafrost

c. Geology

i. Mineral resources

ii. Paleontological resources

d. Water resources and quality

2. Biological environment

a. Terrestrial habitats

i. Vegetation

ii. Animals

b. Freshwater habitats

i. Resident fish

ii. Anadromous fish

c. Marine habitats

i. Fish and shellfish

ii. Mammals

d. Threatened and endangered species

e. Floodplains and wetlands

f. Invasive species

3. Human/social environment

a. Land use

i. Ownership

ii. Wilderness

iii. Parks

iv. Planning

v. Coastal management

b. Transportation

c. Visual environment

d. Noise

e. Recreation

f. Subsistence

g. Socio-cultural systems

h. Cultural resources

i. Archaeological resources

ii. Historical resources

i. Economy

i. Income

ii. Employment

iii. Taxes and revenues

iv. Community services

j. Human health and safety

i. Occupational

ii. Public

k. Environmental justice.

4. Cumulative impacts

a. Other hydrocarbon-based development and transportation

b. Other non-hydrocarbon-based development and transportation

5. Other

a. Irreversible and irretrievable commitment of resources

b. Short-term use versus long-term impacts

c. Unavoidable adverse impacts

The EIS will describe the TAPS design features, mechanisms of impact, emissions and effluents, pollution prevention and waste management, monitoring (including surveillance and maintenance programs), spill prevention and response, and mitigation measures. The EIS will also address the indirect and cumulative impacts associated with oil and gas production, including future development on Alaska's North Slope, and shipment of those products to market. The EIS will include a statement of the purpose and need for the proposed action, including the contribution that the continued use of the TAPS to support North Slope oil production makes to the nation's oil supply, economy, balance of payments, and energy security. Applicable Federal, State, and local statutes and regulations, with international agreements, and required Federal and State permits, consultations, and notifications will be presented.

The public is encouraged to contact the BLM with information and comments on specific issues they believe should be addressed in the EIS. The agency requests information and comments on wildlife, subsistence, and other resources along the pipeline route and in areas indirectly impacted by the pipeline both on the North Slope and along marine transport routes associated with oil and gas development on Alaska's North Slope. The BLM seeks information and comments on the current and past operation of the TAPS and ideas for enhanced operation and maintenance.

Comments are also sought on potential conflicts with approved coastal management plans (CMPs) and other land use plans that may result from the BLM's decision on the renewal of the TAPS right-of-way. These comments should identify specific policies of concern as listed in CMPs or other plans, the nature of the conflicts foreseen, and steps that the BLM could take to avoid or mitigate the potential conflicts. Comments may be in terms of broad areas or restricted to specific areas of concern.

Dated: July 18, 2001.
Jerry Brossia,
Authorized Officer, Joint Pipeline Office.

[FR Doc. 01-19197 Filed 7-30-01; 8:45 am]

BILLING CODE 4310-JA-P